DEPARTMENT OF HEALTH AND HUMAN SERVICES

Health Resources and Services Administration

Announcement of a Funding Priority for Service Multiple Counties Under the Fiscal Year 2007 New Access Points in High Poverty Counties Grant Opportunity

AGENCY: Health Resources and Services Administration (HRSA), HHS

ACTION: Solicitation of comments.

SUMMARY: The President's Health Center Initiative, which began in fiscal year (FY) 2002, was established to significantly impact 1,200 communities by creating new or expanded health center access points. Building on the successes of this Initiative, a second health center initiative has been proposed by the President for FY 2007 to continue to increase access to high quality comprehensive primary health care for the most vulnerable populations in the Nation. The goal of the President's new High Poverty Counties Health Center Initiative is to increase access to primary health care in 200 of the Nation's poorest counties that do not have a health center. This new Initiative is subject to the availability of funds in the FY 2007 Health Center Program appropriation.

The President's High Poverty Counties Health Center Initiative contains two components, New Access Point and Planning grants to be funded under the Consolidated Health Center Program, as authorized by section 330 of the Public Health Service Act (42 U.S.C. 254b, as amended). New Access Point grants will be made for the provision of high quality comprehensive primary and preventive health care services through a new delivery site to a designated medically underserved area or population located in an eligible high poverty county.

As part of the Initiative, it is anticipated that the New Access Points in High Poverty Counties grant opportunity will contain a funding priority. A funding priority is defined as the favorable adjustment of combined review scores of individually approved applications when applications meet specified criteria. The adjustment is typically made by a set, pre-determined number of points. For this grant opportunity, a funding priority is planned for applicants proposing to serve multiple counties (i.e., the proposed target population comes from other county(ies) in addition to the eligible high poverty county). Please note that this priority will not be given to applicants applying for the Planning opportunity of the High Poverty Counties grant opportunities as Planning grant applicants may not have a defined service area, and will not be providing health services through the grant funding. More detailed information about the funding priority will be included in the funding opportunity guidance.

DATES: Please send comments no later than COB January 5, 2007. The comments can be e-mailed to DPDGeneral@hrsa.gov or mailed to Ms. Preeti Kanodia, New Access Point Coordinator, Health Resources and Services Administration, Parklawn Building, Room 17-61, 5600 Fishers Lane, Rockville, Maryland 20857. Comments will be incorporated, as appropriate, into the final guidance for the FY 2007 New Access Points in High Poverty Counties funding opportunity, subject to the availability of FY 2007 funds.

FOR FURTHER INFORMATION CONTACT: Preeti Kanodia, Division of Policy and Development, Bureau of Primary Health Care, Health Resources and Services Administration. Ms. Kanodia may be contacted by e-mail at DPDGeneral@hrsa.gov or via telephone at (301) 594-4300.

Dated: November 29, 2006.
Elizabeth M. Duke,
Administrator.

1 --

[FR Doc. E6-20558 Filed 12-5-06; 8:45 am]

BILLING CODE 4165-15-P